DEPARTMENT OF TRANSPORTATION

National Highway Traffic Safety Administration

[Docket No. DOT-NHTSA-2023-0002]

Draft Model Minimum Uniform Crash Criteria (MMUCC) Guideline, Sixth Edition; Extension of Comment Period

AGENCY: National Highway Traffic Safety Administration (NHTSA), Department of Transportation (DOT).

ACTION: Extension of comment period.

SUMMARY: NHTSA received a petition to extend the comment period for a Request for comments (RFC) notice on the Draft Model Minimum Uniform Crash Criteria (MMUCC) Guideline, Sixth Edition. NHTSA published an RFC notice announcing the draft of MMUCC on February 2, 2023. The comment period for the RFC notice was scheduled to end on April 3, 2023. NHTSA is extending the comment period for the February 2, 2023 RFC notice by 30 days.

DATES: The comment period for the RFC notice published on February 2, 2023 at 88 FR 7128, is extended to May 3, 2023.

ADDRESSES: You may submit comments bearing the Federal Docket Management System Docket ID, Docket DOT-NHTSA-2023-0002 using any of the following methods:

• Federal Rulemaking Portal: Go to https://www.regulations.gov. Follow the online instructions for submitting comments.

• Mail: Send comments to: Docket Management Facility, U.S. Department of Transportation, 1200 New Jersey Avenue SE, West Building, Room W12-140, Washington, DC 20590.

• Fax: Written comments may be faxed to (202) 493-2251.

• Hand Delivery: If you plan to submit written comments by hand or courier, please do so at 1200 New Jersey Avenue SE, West Building Ground Floor, Room W12-140, Washington, DC 20590, between 9 a.m. and 5 p.m./Eastern Time, Monday through Friday, except Federal holidays.

Please submit all comments to the Docket by May 3, 2023.

When you submit your comments, please remember to mention the agency and the docket number of this document within your correspondence. Please note that all comments received will be posted without change to https://www.regulations.gov, including any personal information provided. Please see the “Privacy Act” heading below.

Privacy Act: Anyone can search the electronic form of all comments received into any of our dockets by the name of the individual submitting the comments (or signing the comments, if submitted on behalf of an association, business, labor union, etc.). You may review DOT's complete Privacy Act Statement in the Federal Register published on January 17, 2008 (73 FR 3336) or at https://www.transportation.gov/individuals/privacy/privacy-act-system-records-notices (select “Department Wide System of Record Notices,” then select DOTALL 14 Federal Docket Management System.)

Confidential Information: If you wish to submit any information under a claim of confidentiality, you should submit three copies of your complete submission, including the information you claim to be confidential business information, to the Chief Counsel, NHTSA, 1200 New Jersey Avenue SE, Washington, DC 20590. In addition, you should submit two copies, from which you have deleted the claimed confidential business information, to Docket Management at the address given above under ADDRESSES. When you send a comment containing information claimed to be confidential business information, you should include a cover letter setting forth the information specified in our confidential business information regulation (49 CFR part 512).

Docket: For access to the docket to read the proposed changes to MMUCC, background documents, or comments received, go to https://www.regulations.gov at any time and follow the online instructions for accessing the dockets. Or go to West Building Ground Floor, Room W12-140, 1200 New Jersey Avenue SE, Washington, DC 20590, between 9 a.m. and 5 p.m., Eastern Time, Monday through Friday, except Federal holidays.

FOR FURTHER INFORMATION CONTACT: For information, please contact Beau Burdett, National Center for Statistics and Analysis, NHTSA (telephone: 202-366-7338 or email: beau.burdett@dot.gov).

Authority: The Paperwork Reduction Act of 1995; 44 U.S.C. chapter 35, as amended; 49 CFR 1.49; and DOT Order 1351.29A.

Chou Lin Chen,
Associate Administrator, National Center for Statistics and Analysis.

[FR Doc. 2023-04018 Filed 2-27-23; 8:45 am]

BILLING CODE 4910-59-P